DEPARTMENT OF DEFENSE

Defense Logistics Agency

Privacy Act of 1974; Systems of Records

AGENCY: Defense Logistics Agency.

ACTION: Notice to add a system of records.

SUMMARY: The Defense Logistics Agency proposes to add a system of records notice to its inventory of record systems subject to the Privacy Act of 1974 (5 U.S.C. 552a), as amended.

DATES: This action will be effective without further notice on July 13, 2005 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on June 3, 2005, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 6, 2005.
Jeannette Owings-Ballard,
OSD Federal Register Liaison Officer, Department of Defense.

S700.30

System name:

Operational Accounting Records for Civilian Employee-Based Expenditures.

System location:

Financial Systems Modernization (J-88), Headquarters, Defense Logistics Agency, 8725 John J. Kingman Road, Stop 6238, Fort Belvoir, VA 22060-6221.

Lockheed Martin Enterprise Information Systems, 1401 Del Norte Street, Denver, CO 80221-6910.

Categories of individuals covered by the system:

Defense Logistics Agency (DLA) civilian employees and civilian employees of other DoD Components who receive accounting support from DLA under an administrative support agreement.

Categories of records in the system:

Individual's name, Social Security Number, activity code, home address, Country Code, Electronic Fund Transfer waiver, Financial Institution, Bank Routing Number, Bank Account Number, Account Type, gross pay data (date paid, disbursing officer voucher number, disbursing station symbol number, pay period ending date, pay system code, work schedule, temporary position code, gross reconciliation code, job order number, hours extended, hours paid, and earnings/employer contributions amount), and reconciliation or error data (if applicable).

Authority for maintenance of the system:

10 U.S.C. 136, Under Secretary of Defense for Personnel and Readiness; 31 U.S.C. 3512, Executive agency accounting and other financial management reports and plans, as amended by Pub. L. 104-208, Federal Financial Management Improvement Act of 1996; and E.O. 9397 (SSN).

Purpose(s):

Records are used to initiate reimbursements to enable the Defense Finance and Accounting Service (DFAS) to distribute payments to DLA employees for certain miscellaneous out-of-pocket expenses (training, tuition, Permanent Change of Station, etc). Records are also used to identify employee-related costs associated with reimbursable orders received by DLA and to enable accurate billing of those reimbursable orders.

Records are used to create a general ledger file containing the accounts necessary to reflect DLA operational costs. Operations costs consist of operating accounts, liability accounts, budgetary accounts, and statistical accounts, maintained for the purposes of establishing, in summary form, the status of the DLA accounts and to provide an audit trail to verify accuracy of reports.

Records are used by financial management offices to validate and accurately record employee-labor operational expenses.

Records are used to determine DLA civilian payroll budgetary requirements.

Records are used by internal DLA/DoD auditors to conduct audits or investigations into the DLA accounting process.

Records are used by the DoD Components who receive accounting support from DLA under an administrative support agreement for accounting purposes.

Records devoid of personal identifiers are used for extraction or compilation of data and reports for management studies and statistical analyses for use internally or externally as required by DoD or other government agencies.

Statistical data, with all personal identifiers removed, may be used by management for program evaluation, review, or oversight purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Office of Management and Budget for the purposes of conducting reviews, audits, or inspections of agency practices.

The DoD 'Blanket Routine Uses' set forth at the beginning of DLA's compilation of systems of records notices apply to this system.

Policies and practices for storing, retrieving, assessing, retaining, and disposing of records in the system.

Storage:

Records are maintained on both paper and electronic media.

Retrievability:

Records are retrieved by individual's name and Social Security Number.

Safeguards:

Physical entry is restricted by the use of locks, guards, and administrative procedures. Access to personal information is restricted by access profiles to those who require the records in the performance of their official duties. Access to personal information is further restricted by the use of passwords that are changed periodically.

Retention and disposal:

General ledger postings are cutoff at the end of the fiscal year and are maintained for 6 years and 3 months, and then destroyed.

Reconciliation or error records are destroyed when no longer needed (not to exceed 2 years).

Ready to pay file disposition is pending. Until the National Archives and Records Administration has approved the retention and disposal of ready to pay files, treated them as permanent.

System manager(s) and address:

Staff Director, Financial Systems Modernization (J-88), Headquarters, Defense Logistics Agency, 8725 John J. Kingman Road, Stop 6238, Fort Belvoir, VA 22060-6221.

Notification procedures:

Individuals seeking to determine whether this system of records contains information about themselves should address written inquiries to the Privacy Act Officer, Defense Logistics Agency, ATTN: DP, 8725 John J. Kingman Road, Stop 2533, Fort Belvoir, VA 22060-6221, or the Privacy Act Officer of the particular DLA field activity involved. Official mailing addresses are published as an appendix to DLA's compilation of systems of records notices.

Individuals should provide their full name, Social Security Number, current address, telephone number, and office or organization where currently assigned, if applicable.

Record access procedures:

Individuals seeking access to information about themselves contained in this system of records should address written inquiries to the Privacy Act Officer, Defense Logistics Agency, ATTN: DP, 8725 John J. Kingman Road, Stop 2533, Fort Belvoir, VA 22060-6221, or the Privacy Act Officer of the particular DLA field activity involved. Official mailing addresses are published as an appendix to DLA's compilation of systems of records notices.

Individuals should provide their full name, Social Security Number, current address, telephone number, and office or organization where currently assigned, if applicable.

Contesting record procedures:

The DLA rules for accessing records, for contesting contents and appealing initial agency determinations are contained in 32 CFR part 323, or may be obtained from the Privacy Act Officer, Headquarters, Defense Logistics Agency, ATTN: DP, 8725 John J. Kingman Road, Stop 2533, Fort Belvoir, VA 22060-6221.

Record source categories:

Existing DLA and DFAS databases.

Exemptions claimed for the system:

None.

[FR Doc. 05-11634 Filed 6-10-05; 8:45 am]

BILLING CODE 5001-06-P